ENVIRONMENTAL PROTECTION AGENCY

[EPA-HQ-OPPT-2022-0905; FRL-10798-04-OCSPP]

1,4-Dioxane; Draft Supplement to the TSCA Risk Evaluation; Science Advisory Committee on Chemicals (SACC) Meeting; Amended Notice of Public Meeting

AGENCY: Environmental Protection Agency (EPA).

ACTION: Notice.

SUMMARY: The Environmental Protection Agency (EPA) is announcing a 4-day virtual public meeting on September 12-15, 2023, from 10 a.m. to approximately 5:00 p.m. (EDT), via a webcast platform such as “Zoomgov.com” and audio teleconference for the Science Advisory Committee on Chemicals (SACC) to review EPA's “2023 Draft Supplement to the 1,4-Dioxane Risk Evaluation” prepared under the Toxic Substances Control Act (TSCA). This September 2023 meeting was previously announced in the Federal Register of March 23, 2023, and in the Federal Register of July 10, 2023, EPA announced the availability of the supplement and related documents for public comment. This notice provides additional details regarding the meeting, including meeting times.

DATES: The following is a chronological listing of the dates for the specific activities that are described in more detail under SUPPLEMENTARY INFORMATION.

September 1, 2023—Deadline for submitting a request for special accommodations to allow EPA time to process the request before the meeting.

September 8, 2023—Deadline for providing written comments on the draft supplement.

September 8, 2023—Deadline for registering to be listed on the meeting agenda to make oral comments during the virtual meeting.

September 12-15, 2023—Meeting to be held from 10:00 a.m. to approximately 5:00 p.m. (EDT).

September 15, 2023—Deadline for those not making oral comments to register to receive the links to observe the meeting.

ADDRESSES:

To comment: Submit written comments, identified by docket identification (ID) number EPA-HQ-OPPT-2022-0905, through the Federal eRulemaking Portal at https://www.regulations.gov. Follow the online instructions for submitting comments. Do not electronically submit any information you consider to be Confidential Business Information (CBI) or other information whose disclosure is restricted by statute. Copyrighted material will not be posted without explicit permission from the copyright holder. Members of the public should also be aware that personal information included in any written comments may be posted on the internet at https://www.regulations.gov. Additional information on commenting or visiting the docket, along with more information about dockets generally, is available at https://www.epa.gov/dockets.

To register for the meeting: For information on how to register and access the virtual public meeting, please refer to the SACC website at https://www.epa.gov/tsca-peer-review. EPA intends to announce registration instructions on the SACC website by the end of August 2023. You may also subscribe to the following listserv for alerts regarding this and other SACC-related activities at https://public.govdelivery.com/accounts/USAEPAOPPT/subscriber/new?topic_id=USAEPAOPPT_101.

To request special accommodations: For information on access or services for individuals with disabilities, and to request accommodation for a disability, please contact the Designated Federal Official (DFO) listed under FOR FURTHER INFORMATION CONTACT.

To join the Virtual meeting: The meeting will be virtual, held via a webcast platform such as “Zoomgov.com” and audio teleconference. Please register to obtain access information.

FOR FURTHER INFORMATION CONTACT: The DFO, Dr. Alaa Kamel, Mission Support Division, Office of Program Support, Office of Chemical Safety and Pollution Prevention, Environmental Protection Agency; telephone number: (202) 564-5336 or SACC main office number: (202) 564-8450; email address: kamel.alaa@epa.gov.

SUPPLEMENTARY INFORMATION:

I. Virtual Public Meeting of the SACC

A. What is the purpose of this public meeting?

The purpose of the 4-day virtual public meeting is the SACC peer review of methodologies that have not been previously peer reviewed and are utilized in the 2023 Draft Supplement to the 1,4-Dioxane Risk Evaluation. Feedback from this review will be considered in the development of the final Supplement to the Risk Evaluation for 1,4-Dioxane. In addition, SACC reviewer feedback may help refine EPA's methods for conducting release assessments and evaluating general population exposures in risk evaluations of other chemicals under TSCA.

This September 2023 meeting was previously announced in the Federal Register of March 23, 2023 (88 FR 17566 (FRL-10798-01-OCSPP)), and in the Federal Register of July 10, 2023 (88 FR 43562 (FRL-10798-02-OCSPP)), EPA announced the availability of the supplement and related documents for public comment. Please see the Federal Register of July 10, 2023, for additional details regarding the topic for this meeting.

EPA intends to provide a meeting agenda for each day of the meeting, and as needed, may provide updated times for each day in the meeting agenda that will be posted in the docket and on the SACC website.

B. How can I provide comments for the SACC's consideration?

To ensure proper receipt of comments it is imperative that you identify docket ID No. EPA-HQ-OPPT-2022-0905 in the subject line on the first page of your comments and follow the instructions listed below.

1. Written Comments

The Agency encourages written comments for this meeting be submitted by the deadlines set in the DATES section of this document. Submit comments as instructed under ADDRESSES and this unit.

2. Oral Comments

The Agency encourages each individual or group wishing to make brief oral comments to the SACC during the peer review virtual public meeting to follow the registration instructions that will be announced on the SACC website by the end of August 2023. You should email a written copy of your oral comments or presentation and any supporting materials to the DFO listed under FOR FURTHER INFORMATION CONTACT by the deadline listed in DATES for distribution to the SACC by the DFO. Oral comments before the SACC during the peer review virtual public meeting are limited to 5 minutes.

3. Submitting CBI

Contact the DFO listed under FOR FURTHER INFORMATION CONTACT for instructions before submitted CBI or other sensitive information. Do not submit this information to EPA through https://www.regulations.gov or email. Clearly mark the part or all of the information that you claim to be CBI. For confidential information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

4. Tips for Preparing Your Comments

When preparing and submitting your comments, see the commenting tips at https://www.epa.gov/dockets/commenting-epa-dockets.

C. How can I participate in the virtual public meeting?

The virtual public meeting will be held via a webcast platform such as “Zoomgov.com” and audio teleconference. You must register online to receive the webcast meeting link and audio teleconference information. Please follow the registration instructions stated in ADDRESSES.

Authority: 15 U.S.C. 2625(o); 5 U.S.C. 10.

Dated: July 28, 2023.
Michal Freedhoff,
Assistant Administrator, Office of Chemical Safety and Pollution Prevention.

[FR Doc. 2023-16456 Filed 8-1-23; 8:45 am]

BILLING CODE P